DEPARTMENT OF ENERGY

Federal Energy Regulatory Commission

[Project No. 2307-078]

Alaska Electric Light & Power Company; Notice of Application Tendered for Filing With the Commission and Soliciting Study Requests and Establishing Procedural Schedule for Relicensing and a Deadline for Submission of Final Amendments

Take notice that the following hydroelectric application has been filed with the Commission and is available for public inspection.

a. Type of Application: Major Subsequent License.

b. Project No.: 2307-078.

c. Date filed: August 31, 2016.

d. Applicant: Alaska Electric Light and Power Company.

e. Name of Project: Salmon and Annex Creek Hydroelectric Project.

f. Location: On Salmon Creek and Annex Creek in the City and Borough of Juneau, Alaska. The project occupies about 648.45 acres of federal lands located in the Tongass National Forest administered by the United States Forest Service and operates under an existing license issued in 1988.

g. Filed Pursuant to: Federal Power Act 16 U.S.C. 791(a)-825(r).

h. Applicant Contact: Christy Yearous, Project Manager, Alaska Electric Light & Power Company, 5601 Tongsard Ct., Juneau, AK 99801-7201; (907) 780-2222.

i. FERC Contact: Suzanne Novak at (202) 502-6665, Suzanne.novak@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: October 31, 2016.

The Commission strongly encourages electronic filing. Please file requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2307-078.

m. The application is not ready for environmental analysis at this time.

n. The proposed Salmon and Annex Creek Project consists of two developments, one on Salmon Creek and one on Annex Creek.

The Salmon Creek development consists of the following existing facilities: (1) The 165-acre Salmon Creek reservoir impounded by a 648-foot-long, 168-foot-high dam, with ten 5-foot-wide spillway bays; (2) a 1,500-foot-long segment of a canal used to periodically divert water from tributary streams into Salmon Creek Reservoir; (3) a 10-foot-wide, 11-foot-high intake structure with trashracks at the base of the dam; (4) a 3-foot-diameter conduit that conveys flows from the dam to the project valvehouse located immediately downstream; (5) the project valvehouse containing two penstocks: (i) An 11,030-foot-long, 3.5-foot-diameter penstock that narrows to a 2.5-foot-diameter immediately before entering the Lower Powerhouse, and (ii) a 4,290-foot-long, 3.3- to-2.5-foot-diameter penstock that conveys flows to the decommissioned Upper Powerhouse; (6) the 57-foot-long, 44-foot-wide, 32-foot-high, Lower Powerhouse, which contains a 6.9-megawatt (MW) impulse turbine; (7) an approximately 250-foot-long tailrace that flows underneath Egan Drive and empties into a pond adjacent to the Douglas Island Pink and Chum, Inc., hatchery; and (8) appurtenant facilities.

The Annex Creek development consists of the following existing facilities: (1) The 264-acre Upper Annex Lake, impounded by a 118-foot-long, 20-foot-high dam with a 57-foot-wide spillway that discharges flows in excess of those needed for generation into the Lower Annex Lake; (2) a small timber saddle dam, 61 feet long and 6 feet high, located just west of the main dam; (3) the natural 27-acre Lower Annex Lake; (4) a lake tap intake on Upper Annex Lake; (5) a 1,433-foot-long power tunnel that narrows from 8 feet wide and 8 feet high at the intake to a 6.5-foot-diameter tunnel at the project valvehouse; (6) the project valvehouse containing the penstock intake; (7) the 7,097-foot-long, 3.5-foot-diameter penstock that narrows to a 2.8-foot-diameter before it bifurcates at the powerhouse to provide flows to two impulse turbine units with a total installed capacity of 3.675 MW; (8) the 67-foot-long, 48-foot-wide, 40-foot-high, powerhouse; (9) a tailrace that discharges flows over a weir into Taku Inlet; (10) a 12.5-mile-long, 23-kilovolt (kV) transmission line that conveys power to the Thane substation; and (11) appurtenant facilities.

The project currently operates to provide base load generation with an estimated annual output of 53.8 gigawatt-hours. No changes to project operation or facilities are proposed.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary Hydro Licensing Schedule. Revisions to the schedule will be made as appropriate.

Issue Notice of Acceptance | November 2016.
Issue Scoping Document 1 | December 2016.
Comments on Scoping Document 1 | January 2017.
Issue Scoping Document 2 | March 2017.
Issue Notice Ready for Environmental Analysis | March 2017.
Filing of Comments, Terms and Conditions, Recommendations and Prescriptions | June 2017.
Applicant's reply comments | August 2017.
Commission issues Environmental Assessment (EA) | November 2017.
Comments on draft EA | December 2017.

Final amendments to the application must be filed with the Commission no later than 30 days from the issuance date of the notice of ready for environmental analysis.

Dated: September 9, 2016.
Kimberly D. Bose,
Secretary.

[FR Doc. 2016-22268 Filed 9-15-16; 8:45 am]

BILLING CODE 6717-01-P